DEPARTMENT OF HOMELAND SECURITY

Secret Service

[DHS-2024-0002]

U.S. Secret Service “Cyber Investigations Advisory Board”

AGENCY: United States Secret Service (USSS), Department of Homeland Security, (DHS).

ACTION: Public announcement for the reestablishment of a Federal advisory committee.

SUMMARY: The United States Secret Service (USSS) has reestablished a “Cyber Investigations Advisory Board (CIAB),” a Federal Advisory Committee, in order to “prevent and disrupt criminal use of cyberspace,” as directed in the 2018 Department of Homeland Security Cybersecurity Strategy (Pillar #3, Goal #4) and as identified by the Secretary of Homeland Security in 2021. This notice is not a solicitation for membership. The goal of CIAB is to provide the USSS with insights from industry, the public sector, academia, and non-profit organizations on emerging cybersecurity and cybercrime issues, and to provide outside strategic direction for the USSS investigative mission. The CIAB will serve a principal mechanism through which senior industry and other experts can engage, collaborate, and advise the USSS regarding cybersecurity and cybercrime issues.

SUPPLEMENTARY INFORMATION:

Background on the U.S. Secret Service's Investigative Mission: The U.S. Secret Service has been investigating and preventing financial crimes since its creation in 1865. Today, the agency's investigative mission has evolved to include safeguarding the payment and financial systems of the United States from a wide range of financial and computer-enabled frauds.

The Office of Investigations is the largest directorate within the U.S. Secret Service, supporting protective responsibilities world-wide and executing the founding mission of the Secret Service—to safeguard the integrity of U.S. financial and payment systems. The Office of Investigations accomplishes this mission through strategic objectives that include: (1) Focusing on countering the most significant criminal threats to the financial and payment systems of the United States through criminal investigations; (2) Supporting protective responsibilities through investigation of threats and safeguarding persons, locations and events; (3) Growing and developing the Secret Service workforce through strategic hiring and training.

FACA Exemption: Due to the law enforcement sensitive nature of the discussions that will take place during committee meetings, the CIAB is exempted by the Secretary of Homeland Security from the public notice, reporting, and open meeting requirements of the Federal Advisory Committee Act (Pub. L. 92-463, 5 U.S.C. ch.10), pursuant to the Homeland Security Act of 2002, 871(a)[(6 U.S.C. 451(a))].

DATES: The CIAB will hold meetings twice annually at U.S. Secret Service Headquarters in Washington, DC.

FOR FURTHER INFORMATION CONTACT: Emma Wormser, CIAB Designated Federal Officer, emma.wormser@usss.dhs.gov.

Michael J. Miron,
Committee Management Officer, Department of Homeland Security.

[FR Doc. 2024-01565 Filed 1-25-24; 8:45 am]

BILLING CODE 9110-18-P